COMMISSION ON CIVIL RIGHTS

Notice of Public Meeting of the Pennsylvania Advisory Committee

AGENCY: Commission on Civil Rights.

ACTION: Announcement of meeting.

SUMMARY: Notice is hereby given, pursuant to the provisions of the rules and regulations of the U.S. Commission on Civil Rights (Commission), and the Federal Advisory Committee Act (FACA) that a meeting of the Pennsylvania Advisory Committee to the Commission will convene by conference call at 11:30 a.m. (EST) on Tuesday, October 15, 2019. The purpose of the meeting is to discuss the two briefing meetings on the Committee's project titled, School Discipline and School-to-Prison Pipeline in PA. The first briefing will be on Tuesday, November 19, 2019 and conducted via conference call; the second daylong, in-person briefing will be on Thursday, November 21, 2019. Details for both briefings will be provided in subsequent Federal Register notices.

DATES: Tuesday, October 15, 2019, 2019, at 11:30 a.m. (EDT).

FOR FURTHER INFORMATION CONTACT: Ivy Davis at ero@usccr.gov or by phone at 202-376-7533.

SUPPLEMENTARY INFORMATION:

Public Call-In Information: Conference call-in number: 800-353-6461 and conference call ID number: 6813288.

Interested members of the public may listen to the discussion by calling the following toll-free conference call-in number: 800-353-6461 and conference call ID number: 6813288. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in number: 800-353-6461 and conference call ID number: 6813288.

Members of the public are invited to make statements during the Public Comment section of the meeting or to submit written comments. The statements must be received in the regional office approximately 30 days after the scheduled meeting. Written comments may be mailed to the Eastern Regional Office, U.S. Commission on Civil Rights, 1331 Pennsylvania Avenue, Suite 1150, Washington, DC 20425, or emailed to Corrine Sanders at ero@usccr.gov. Persons who desire additional information may phone the Eastern Regional Office at (202) 376-7533.

Records and documents discussed during the meeting will be available for public viewing as they become available at: https://www.facadatabase.gov/FACA/FACAPublicViewCommitteeDetails?id=a10t0000001gzjZAAQ; click the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda: Tuesday, October 15, 2019

I. Rollcall

II. Welcome

III. Project Planning

—Discuss Details of the two planned Briefings on the Committee's Civil Rights Project

IV. Other Business

V. Next Meetings

VI. Public Comments

VII. Adjourn

Exceptional Circumstance: Pursuant to 41 CFR 102-3.150, the notice for this meeting is given less than 15 calendar days prior to the meeting because of the exceptional circumstances of preparing for the committee's November 21, 2019, hearing.

Dated: October 2, 2019.
David Mussatt,
Supervisory Chief, Regional Programs Unit.

[FR Doc. 2019-21799 Filed 10-4-19; 8:45 am]

BILLING CODE P